DEPARTMENT OF COMMERCE

[I.D. 011102A]

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Permits for Incidental Taking of Endangered or Threatened Species.

Form Number(s): None.

OMB Approval Number: 0648-0230.

Type of Request: Regular submission.

Burden Hours: 1,048.

Number of Respondents: 13.

Average Hours Per Response: 80 hours for a permit application; 30 minutes for an application for a Certificate of Inclusion; 8 hours for a permit report; 10 hours for a watershed plan; and 40 hours for a transfer of an Incidental Take permit.

Needs and Uses: The Endangered Species Act (ESA) prohibits the taking of endangered species. Section 10 of the ESA allows for certain exceptions to the prohibitions, such as a taking that would be incidental to an otherwise lawful activity. The corresponding regulations provide application and reporting requirements for such exceptions. The required information is used to evaluate the proposed activity (application) and ongoing activities (reports) and is necessary for National Marine Fisheries Service to ensure the conservation of the species under the ESA.

Affected Public: Individuals or households, business or other for-profit organizations, not-for-profit institutions, and state, local, or tribal government.

Frequency: On occasion; annually.

Respondent's Obligation: Required to obtain or retain a benefit.

OMB Desk Officer: David Rostker, (202) 395-3897.

Copies of the above information collection proposal can be obtained by calling or writing Madeleine Clayton, Departmental Paperwork Clearance Officer, (202) 482-3129, Department of Commerce, Room 6086, 14th and Constitution Avenue, NW, Washington, DC 20230 (or via the Internet at MClayton@doc.gov).

Written comments and recommendations for the proposed information collection should be sent within 30 days of publication of this notice to David Rostker, OMB Desk Officer, Room 10202, New Executive Office Building, Washington, DC 20503.

Dated: January 10, 2002.
Madeleine Clayton,
Departmental Paperwork Clearance Officer, Office of the Chief Information Officer.

[FR Doc. 02-1138 Filed 1-15-02; 8:45 am]

BILLING CODE 3510-22-S